ENVIRONMENTAL PROTECTION AGENCY

40 CFR Part 52

[EPA-R01-OAR-2012-0865; A-1-FRL-9950-60-Region 1]

Air Plan Approval; NH; Control of Volatile Organic Compound Emissions From Minor Core Activities

AGENCY: Environmental Protection Agency (EPA).

ACTION: Direct final rule.

SUMMARY: The Environmental Protection Agency (EPA) is approving a State Implementation Plan (SIP) revision submitted by the State of New Hampshire on October 4, 2012. The revision clarifies Reasonably Available Control Technology (RACT) requirements as they apply to minor core activities of volatile organic compound (VOC) sources. The intended effect of this action is to approve these requirements into the New Hampshire SIP. This action is being taken in accordance with the Clean Air Act.

DATES: This direct final rule will be effective October 14, 2016, unless EPA receives adverse comments by September 14, 2016. If adverse comments are received, EPA will publish a timely withdrawal of the direct final rule in the Federal Register informing the public that the rule will not take effect.

ADDRESSES: Submit your comments, identified by Docket ID No. EPA-R01-OAR-2012-0865 at http://www.regulations.gov, or via email to Mackintosh.David@epa.gov. For comments submitted at Regulations.gov, follow the online instructions for submitting comments. Once submitted, comments cannot be edited or removed from Regulations.gov. For either manner of submission, the EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the Web, cloud, or other file sharing system). For additional submission methods, please contact the person identified in the “For Further Information Contact” section. For the full EPA public comment policy, information about CBI or multimedia submissions, and general guidance on making effective comments, please visit http://www2.epa.gov/dockets/commenting-epa-dockets.

FOR FURTHER INFORMATION CONTACT: David L. Mackintosh, Air Quality Planning Unit, U.S. Environmental Protection Agency, EPA New England Regional Office, 5 Post Office Square—Suite 100, (Mail code OEP05-2), Boston, MA 02109-3912, tel. 617-918-1584, fax 617-918-0668, email Mackintosh.David@epa.gov.

SUPPLEMENTARY INFORMATION: Throughout this document whenever “we,” “us,” or “our” is used, we mean EPA.

Organization of this document. The following outline is provided to aid in locating information in this preamble.

I. What action is EPA taking?

II. What is the background for this action?

III. What is EPA's evaluation of New Hampshire's submittal?

IV. Final Action

V. Incorporation by Reference

VI. Statutory and Executive Order Reviews

I. What action is EPA taking?

EPA is approving, and incorporating into the New Hampshire SIP, revised sections of New Hampshire's Chapter Env-A 1200 “Volatile Organic Compounds (VOCs) Reasonably Available Control Technology (RACT),” submitted by the New Hampshire Department of Environmental Services (NH DES) to EPA as a SIP revision on October 4, 2012. Specifically, EPA is approving New Hampshire's revised Env-A 1201.04 “Exemptions: Conditions,” revised Env-A 1203.38 definition of “minor core activity,” and revised Env-A 1222.01 “Applicability Criteria for Miscellaneous and Multicategory Stationary VOC Sources.”

II. What is the background for this action?

EPA has established, and periodically reviews and revises, the National Ambient Air Quality Standard (NAAQS) for ground-level ozone. On March 27, 2008 (73 FR 16436), EPA published a final rule for a new 8-hour ozone standard of 0.075 parts per million (ppm). On May 21, 2012 (77 FR 30088), EPA designated areas for the 2008 ozone NAAQS and designated New Hampshire as Unclassifiable/Attainment for the 2008 ozone NAAQS. Subsequently, EPA revised the ozone NAAQS on October 26, 2015 (80 FR 65292). EPA has not yet, however, issued designations for the 2015 ozone NAAQS.

New Hampshire is also part of the Ozone Transport Region (OTR) under Section 184(a) of the Clean Air Act (CAA). Sections 182(b)(2) and 184 of the CAA compel states with moderate and above ozone nonattainment areas, as well as areas in the OTR respectively, to submit a SIP revision requiring the implementation of RACT for sources covered by a Control Techniques Guideline (CTG) and for all major sources. A CTG is a document issued by EPA which establishes a “presumptive norm” for RACT for a specific VOC source category.

III. What is EPA's evaluation of New Hampshire's submittal?

EPA previously approved New Hampshire's Env-A 1200 on November 8, 2012 (77 FR 66921). New Hampshire's October 4, 2012 submittal includes revisions to three sections of this regulation.

Revised Env-A 1201.04 extends by one year, from June 1, 2012 until May 31, 2013, the option for a source to voluntarily restrict their emissions to remain below the relevant applicability threshold and thus not be subject to certain requirements. Specifically, this option applies to newly regulated source categories added to Env-A 1200 on June 1, 2011. The process shall be exempt if the owner or operator files an application for a permit before May 31, 2013 and accepts an enforceable permit that limits emissions below the relevant applicability threshold and contains the necessary testing and recordkeeping and reporting requirements to demonstrate compliance.

Revised Env-A 1203.38 clarifies the definition of “minor core activity” as any core activity at a stationary source for which the VOC emissions from processes and devices are less than the relevant RACT threshold and less than 5 tons per consecutive 12-month period. The interpretation of the definition did not change but rather the language was revised to make the definition clearer.

Lastly, in revised Env-A 1222.01, a prior exemption for minor core activities has been removed. Previously, minor core activities with VOC emissions less than 5 tons per consecutive 12 month period were exempt from New Hampshire's Env-A 1222 emission control and recordkeeping requirements. In the revised regulations, minor core activities are considered in a source's applicability determination and thus, may be subject to the emission control and recordkeeping requirements in Env-A 1222.

The three revisions discussed above serve to clarify the existing regulation and are not intended to significantly impact its original interpretation. New Hampshire's Env-A 1200 VOC RACT regulation remains consistent with the Clean Air Act and EPA guidance. Therefore, the revised provisions satisfy the anti-back sliding requirements in Section 110(l) of the CAA and EPA is approving these revised provisions into the New Hampshire SIP.

IV. Final Action

EPA is approving, and incorporating into the New Hampshire SIP, revised sections of New Hampshire's Chapter Env-A 1200, “Volatile Organic Compounds (VOCs) Reasonably Available Control Technology (RACT),” submitted on October 4, 2012. Specifically, EPA is approving New Hampshire's revised Env-A 1201.04 “Exemptions: Conditions,” revised Env-A 1203.38 definition of “minor core activity,” and revised Env-A 1222.01 “Applicability Criteria for Miscellaneous and Multicategory Stationary VOC Sources.”

The EPA is publishing this action without prior proposal because the Agency views this as a noncontroversial amendment and anticipates no adverse comments. However, in the proposed rules section of this Federal Register publication, EPA is publishing a separate document that will serve as the proposal to approve the SIP revision should relevant adverse comments be filed. This rule will be effective October 14, 2016 without further notice unless the Agency receives relevant adverse comments by September 14, 2016.

If the EPA receives such comments, then EPA will publish a notice withdrawing the final rule and informing the public that the rule will not take effect. All public comments received will then be addressed in a subsequent final rule based on the proposed rule. The EPA will not institute a second comment period on the proposed rule. All parties interested in commenting on the proposed rule should do so at this time. If no such comments are received, the public is advised that this rule will be effective on October 14, 2016 and no further action will be taken on the proposed rule. Please note that if EPA receives adverse comment on an amendment, paragraph, or section of this rule and if that provision may be severed from the remainder of the rule, EPA may adopt as final those provisions of the rule that are not the subject of an adverse comment.

V. Incorporation by Reference

In this rule, the EPA is finalizing regulatory text that includes incorporation by reference. In accordance with requirements of 1 CFR 51.5, the EPA is finalizing the incorporation by reference of the State of New Hampshire regulations described in the amendments to 40 CFR part 52 set forth below. The EPA has made, and will continue to make, these documents generally available electronically through http://www.regulations.gov.

VI. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by October 14, 2016. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking. This action may not be challenged later in proceedings to enforce its requirements. (See section 307(b)(2).)

List of Subjects in 40 CFR Part 52

Environmental protection, Air pollution control, Incorporation by reference, Intergovernmental relations, Ozone, Reporting and recordkeeping requirements, Volatile organic compounds.

Dated: August 1, 2016.
H. Curtis Spalding,
Regional Administrator, EPA New England.

Part 52 of chapter I, title 40 of the Code of Federal Regulations is amended as follows:

PART 52—[AMENDED]

1. The authority citation for part 52 continues to read as follows:

Authority: 42 U.S.C. 7401 et seq.

Subpart EE—New Hampshire

2. In § 52.1520(c), the table is amended by revising the entry for “Env-A 1200” to read as follows:

§ 52.1520 Identification of plan.

* * * * *

(c) * * *

EPA-Approved New Hampshire Regulations
State citation | Title/subject | State effective date | EPA approval date ¹ | Explanations
* * * * * * *
Env-A 1200 | Volatile Organic Compounds (VOCs) Reasonably Available Control Technology (RACT) | 6/1/2011 | 8/15/2016 [Insert Federal Register citation] | Revised sections 1201.04, 1203.38, and 1222.01 approved in this action.
* * * * * * *
¹ In order to determine the EPA effective date for a specific provision listed in this table, consult the Federal Register notice cited in this column for the particular provision.

* * * * *

[FR Doc. 2016-19123 Filed 8-12-16; 8:45 am]

BILLING CODE 6560-50-P